DEPARTMENT OF ENERGY

Federal Energy Regulatory Commission

[Docket No. IC21-13-000]

Commission Information Collection Activities (FERC-725l); Comment Request; Extension

AGENCY: Federal Energy Regulatory Commission.

ACTION: Notice of information collection and request for comments.

SUMMARY: In compliance with the requirements of the Paperwork Reduction Act of 1995, the Federal Energy Regulatory Commission (Commission or FERC) is soliciting public comment on a renewal of currently approved information collection FERC 725L (Mandatory Reliability Standards for the Bulk-Power System: MOD Reliability Standards), which will be submitted to the Office of Management and Budget (OMB) for review.

DATES: Comments on the collection of information are due July 14, 2021.

ADDRESSES: Send written comments on FERC-725L to OMB through www.reginfo.gov/public/do/PRAMain. Attention: Federal Energy Regulatory Commission Desk Officer. Please identify the OMB Control Number (1902-0261) in the subject line of your comments. Comments should be sent within 30 days of publication of this notice to www.reginfo.gov/public/do/PRAMain. Please submit copies of your comments to the Commission. You may submit copies of your comments (identified by Docket No. IC21-13-000) by one of the following methods:

Electronic filing through http://www.ferc.gov is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection. FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC 725L (Mandatory Reliability Standards for the Bulk-Power System: MOD Reliability Standards).

OMB Control No.: 1902-0261.

Type of Request: Three-year extension of the FERC-725L information collection requirements with changes to the current reporting requirements due to RD20-4.

Abstract: MOD Reliability Standards ensure that generators remain in operation during specified voltage and frequency excursions, properly coordinate protective relays and generator voltage regulator controls, and ensure that generator models accurately reflect the generator's capabilities and equipment performance.

On May 30, 2013, the North American Electric Reliability Corporation (NERC) filed a petition explaining that the reliability of the Bulk-Power System benefits from “good quality simulation models of power system equipment,” ² and that “model validation ensures the proper performance of the control systems and validates the computer models used for stability analysis.” NERC further stated that the Reliability Standards will enhance reliability because the tests performed to obtain model data may reveal latent defects that could cause “inappropriate unit response during system disturbances.” ² Subsequently, on March 20, 2014,¹ the Commission approved Reliability Standards MOD-025-2, MOD-026-1, and MOD-027-1. These Standards were intended to address generator verifications needed to support Bulk-Power System reliability that would also ensure that accurate data is verified and made available for planning simulations.²

¹ Final Rule in Docket No. RM13-16-000.

² NERC Petition for Approval of Five Proposed Reliability Standards MOD-025-2, MOD-026-1, MOD-027-1, PRC-019-1, and PRC-024-1 submitted to FERC on 5/30/2013.

On May 1, 2014,³ the Commission approved Reliability Standards MOD-032-1 and MOD-033-2. These Standards were to address “system-level modeling data and validation requirements necessary for developing planning models and the Interconnection-wide cases that are integral to analyzing the reliability of the Bulk-Power System”. MOD-025-2, MOD-026-1, MOD-027-1, MOD-031-3, MOD-032-1 and MOD-033-2 are all currently approved within the FERC-725L information collection. The reporting requirements associated with each standard will not change as a result of this extension request.

³ Order in Docket No. RD14-5-000.

The 60-day notice published on April 8, 2021 and received no comments.

Type of Respondents: NERC-registered entities including generator owners, transmission planners, planning authorities, balancing authorities, resource planners, transmission service providers, reliability coordinators, and transmission operators.⁴

⁴ In subsequent portions of this notice, the following acronyms will be used: PA = Planning Authority, GO = Generator Owner, TP = Transmission Planner, BA = Balancing Authority, RP = Resource Planner, TSP = Transmission Service Provider, RC = Reliability Coordinator, TOP = Transmission Operator.

Estimate of Annual Burden: ⁵ The Commission estimates the annual public reporting burden ⁶ and cost for the information collection as:

⁵ “Burden” is defined as the total time, effort, or financial resources expended by persons to generate, maintain, retain, or disclose or provide information to or for a Federal agency. For further explanation of what is included in the information collection burden, reference 5 Code of Federal Regulations 1320.3.

⁶ Each of the five MOD standards in the FERC-725L information collection previously contained “one-time” components to their respondent burden. These one-time burden categories consisted primarily of activities related to establishing industry practices and developing data validation procedures tailored toward these reliability standards and their reporting requirements. None of the one-time burdens apply any longer, so they are being removed from the FERC-725L information collection.

RD20-4:

• Elimination of the burden associated with the load-serving entity (LSE) function in Requirement R1 of proposed Reliability Standard MOD-031-3.⁷ The NERC petition states as the load-serving entity is no longer a NERC registration category, NERC proposes to remove this entity from the applicability section of proposed Reliability Standard MOD-031-3 and remove reference to this entity in Requirement R1, Part 1.1, where it is listed as an “Applicable Entity” for purposes of Requirements R2 and R4.⁸

⁷ The burden associated with the current version of this standard, MOD-031-2, is included in FERC-725L.

⁸ Standards Alignment with Registration Petition at 10.

Additionally, NERC proposes to strike the term “Planning Authority” from the applicability section of the standard and the explanatory text that follows. The preferred terminology for the responsible entity that coordinates and integrates transmission facilities and service plans, resource plans, and protection systems is “Planning Coordinator.” ⁹ This is a terminology change and will not result in a change in burden.

⁹ Standards Alignment with Registration Petition at 10.

• Modification of the term “Planning Authority” to “Planning Coordinator” in proposed Reliability Standard MOD-033-2.¹⁰ In the petition, NERC proposes to strike the term “Planning Authority” from the applicability section of the standard and the explanatory text that follows. The proposed change is intended to promote consistent use of “Planning Coordinator” throughout the Reliability Standards.¹¹ This is a terminology change and will not result in a change in burden.

¹⁰ The burden associated with the current version of this standard, MOD-033-1, is included in FERC-725L.

¹¹ Standards Alignment with Registration Petition at 11.

• Reliability Standard MOD-031-3 (Demand and Energy Data).

• Reliability Standard MOD-033-2 (Steady-State and Dynamic System Model Validation).

Proposed Changes to Burden Due to Docket No. RD20-4-000 Adjustments and Clarifications [1]
Reliability standard & requirements | Number of respondents & type of entity | Annual number of responses per respondent | Annual number of responses | Average burden hrs. per response | Total annual burden hours
| (1) | (2) | (1) * (2) = (3) | (4) | (3) * (4) = (5)
RD20-4 Net Changes to FERC-725L, OMB Control No. 1902-0261
MOD-031-3 (Demand and Energy Data) Develop summary in accordance w/R1, Subparts 1.5.4 and 1.5.5.—program decrease & adjustment/clarification ¹² | −561 (DP, LSE, TP & BA) | 1 | −561 | 8 | −4,488
MOD-031-3 (Demand and Energy Data) Develop data request in accordance w/R1 and R3 & Evidence Retention—adjustment/clarification ¹³ | 113 (PC & BA) | 1 | 113 | 8 | 904
MOD-031-3 (Demand and Energy Data) Develop and provide data in accordance w/R2 and R4 & Evidence Retention—adjustment/clarification ¹² | 381 (TP, BA & DP) | 1 | 381 | 8 | 3,048
MOD-033-2 (Steady-State Dynamic System Model Validation) R2 Data Submittal [for R2]—adjustment | −14 (RC & TOP) ¹⁴ | 1 | −14 | 8 | −112
MOD-033-2 (Steady-State Dynamic System Model Validation), R1-R2, Evidence Retention, adjustment | −14 (PC, RC & TOP) ¹⁵ | 1 | −14 | 1 | −14
Net Changes for FERC-725L due to RD20-4 |  |  | −95 (net reduction) |  | −662 (net reduction)

MOD-025-2
[Verification and data reporting of generator real and reactive power capability and synchronous condenser reactive power capability]
| Number of respondents ¹⁶ | Annual number of responses per respondent | Total number of responses | Average burden & cost per response | Total annual burden hours & total annual cost | Cost per respondent ($)
| (1) | (2) | (1) * (2) = (3) | (4) | (3) * (4) = (5) | (5) ÷ (1)
Attachment 2 | 1,003 (GO) | 1 | 1,003 | 6 hrs.; $502.02 ¹⁷ | 6,018 hrs.; $503,526.06 | $502.02
Evidence Retention | 1,003 (GO) | 1 | 1,003 | 1 hr.; $34.79 ¹⁸ | 1,003 hrs.; $34,894.07 | 34.79
Total |  |  |  |  | 7,021 hrs.; $538,420.07 |

MOD-026-1
[Verification of models and data for generator excitation control system or plant volt/variance control functions]
| Number of respondents | Annual number of responses per respondent | Total number of responses | Average burden & cost per response | Total annual burden hours & total annual cost | Cost per respondent ($)
| (1) | (2) | (1) * (2) = (3) | (4) | (3) * (4) = (5) | (5) ÷ (1)
Instructions for obtaining excitation control system or plant voltage/variance control function model | 201 (TP) | 1 | 201 | 8 hrs.; $669.36 ¹⁷ | 1,608 hrs.; $134,541.36 | $669.36
Documentation on generator verification | 501 (GO) | 1 | 501 | 8 hrs.; $669.36 ¹⁷ | 4,008 hrs.; $335,349.36 | 669.36
Evidence Retention | 668 (GO and TOP) | 1 | 668 | 1 hr.; $34.79 ¹⁸ | 668 hrs.; $23,239.72 | 34.79
Total |  |  |  |  | 6,284 hrs.; $493,130.44 |

MOD-027-1
[Verification of models and data for turbine/governor and load control or active power/frequency control functions]
| Number of respondents | Annual number of responses per respondent | Total number of responses | Average burden & cost per response | Total annual burden hours & total annual cost | Cost per respondent ($)
| (1) | (2) | (1) * (2) = (3) | (4) | (3) * (4) = (5) | (5) ÷ (1)
Instructions for obtaining excitation control system or plant voltage/variance control function model | 201 (TP) | 1 | 201 | 8 hrs.; $669.36 ¹⁷ | 1,608 hrs.; $134,541.36 | $669.36
Documentation on generator verification | 501 (GO) ¹⁹ | 1 | 501 | 8 hrs.; $669.36 ¹⁷ | 4,008 hrs.; $335,349.36 | 669.36
Evidence Retention | 668 (GO and TP) | 1 | 668 | 1 hr.; $34.79 ¹⁸ | 668 hrs.; $23,239.72 | 34.79
Total |  |  |  |  | 6,284 hrs.; $493,130.44 |

MOD-031-3 (Formerly MOD-031-2) (Demand and Energy Data), Included in FERC-725L
Reliability standard MOD-031-3 | Number and type of respondents | Annual number of responses per respondent | Total number of responses | Avg. burden & cost per response ²⁰ | Total annual burden hours & total annual cost | Cost per respondent ($)
| (1) | (2) | (1) * (2) = (3) | (4) | (3) * (4) = (5) | (5) ÷ (1)
(On-going) Develop summary in accordance with Requirement R1, Subparts 1.5.4 and 1.5.5 | 616 (DP, TP and/or BA) | 1 | 616 | 8 hrs.; $561.52 | 4,928 hrs.; $345,896.32 | $561.52
MOD-031-3 Net Changes in RD20-4 (in the first table above) |  |  | −67 |  | −536 hrs.; $37,621.84 |
New Total for MOD-031-3 for Renewal |  |  | 549 |  | 4,392 hrs.; $308,274.48 |

MOD-032-1
[Verification of models and data for turbine/governor and load control or active power/frequency control functions]
| Number of respondents | Annual number of responses per respondent | Total number of responses | Average burden & cost per response | Total annual burden hours & total annual cost | Cost per respondent ($)
| (1) | (2) | (1) * (2) = (3) | (4) | (3) * (4) = (5) | (5) ÷ (1)
Data Submittal | 1,418 (BA, GO, PA/PC, RP, TO, TP, and TSP) | 1 | 1,418 | 8 hrs.; $561.52 ²⁰ | 11,344 hrs.; $796,235.36 | $561.52
Evidence Retention | 1,418 (BA, GO, PA/PC, RP, TO, TP, and TSP) | 1 | 1,418 | 1 hr.; $34.79 ¹⁸ | 1,418 hrs.; $49,332.22 | 34.79
Total |  |  |  |  | 12,762 hrs.; $998,484.70 |

MOD-033-2 (Formerly MOD-033-1)
[Steady-state and dynamics system model validation]
| Number of respondents | Annual number of responses per respondent | Total number of responses | Avg. burden & cost per response | Total annual burden hours & total annual cost | Cost per respondent ($)
| (1) | (2) | (1) * (2) = (3) | (4) | (3) * (4) = (5) | (5) ÷ (1)
Data Submittal | 178 (RC and TOP) | 1 | 178 | 8 hrs.; $669.36 ²⁰ | 1,424 hrs.; $119,146.08 | $669.36
Evidence Retention | 243 (PA/PC, RC, and TOP) | 1 | 243 | 1 hr.; $34.79 ¹⁸ | 243 hrs.; $8,453.97 | 34.79
MOD-033-2 Net Changes in RD20-4 (in the first table above) |  |  | −28 |  | −126 |
New Total for MOD-033-2 Renewal |  |  | 393 |  | 1,541 hrs.; $128,935.47 |

The total annual estimated burden and cost for the FERC-725L information collection is 38,724 hours and $2,960,375.60 respectively.

¹² The estimates reflect a program decrease of 63 de-registered LSEs (and corresponding program decrease of 504 hrs.) related to Docket No. RD20-4-000, and an adjustment/clarification (decrease) of 498 DPs, TPs, and BAs (and corresponding decrease of 3,984 hrs.), not related to Docket No. RD20-4-000. The updated number of 381 DPs, TPs and BAs is listed in a new row clarifying their applicability with Requirements R2 and R4. Requirement R2 requires applicable entities to develop and provide data pursuant with Requirement R1.

¹³ The 113 PCs and BAs were originally estimated in FERC-725A due to Order No. 693. However, the estimates and descriptions were not clearly spelled out, so we are clarifying them. [Some of this burden may still be in FERC-725A (and double counted temporarily).]

¹⁴ The estimate is changing to 174 (from 188) due to normal industry fluctuation.

¹⁵ The estimate is changing to 188 (from 194) due to normal industry fluctuation.

¹⁶ The number of respondents for MOD-025-2/MOD-026-1/MOD-027-1/MOD-31-3/MOD-032-/MOD-033-2 are from the NERC compliance registry February 5, 2021.

¹⁷ This wage figure uses the average hourly wage (plus benefits) for electrical engineers (Occupation Code: 17-2071, $70.19/hour) and managers (Occupation Code: 11-0000, $97.15/hour) obtained from the Bureau of Labor Statistics (BLS) (from https://www.bls.gov/oes/current/naics2_22.htm). The average used the following calculation: [$70.19/hour + $97.15/hour] ÷ 2 = $83.67/hour.

¹⁸ The estimate uses the hourly average wage (plus benefits) for file clerks obtained from the Bureau of Labor Statistics: $34.79/hour (BLS Occupation Code: 43-4071).

¹⁹ It is estimated that the applicable numbers of generator owner respondents used to calculate the public reporting burden for these standards MOD-026-1, MOD-027- 1, MOD-032-1 and MOD-033-1 is half of total numbers of GO (501=1003/2) due to the higher applicability threshold for those Reliability Standards.

²⁰ The estimate uses the average hourly wage (plus benefits) of $70.19/hour for electrical engineers (Occupation Code: 17-2071) from the Bureau of Labor Statistics.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 8, 2021.
Kimberly D. Bose,
Secretary.

[FR Doc. 2021-12376 Filed 6-11-21; 8:45 am]

BILLING CODE 6717-01-P